DEPARTMENT OF ENERGY

Federal Energy Regulatory Commission

Combined Notice of Filings

Take notice that the Commission has received the following Natural Gas Pipeline Rate and Refund Report filings:

Filings Instituting Proceedings

Docket Numbers: RP11-2137-000.

Applicants: Dominion Cove Point LNG, LP.

Description: DCP-RP11-2137 and RP12-937 Refund Report.

Filed Date: 9/6/12.

Accession Number: 20120906-5063.

Comments Due: 5 p.m. ET 9/18/12.

Docket Numbers: RP12-1023-000.

Applicants: East Tennessee Natural Gas, LLC.

Description: Negotiated Rate Agreement—CP and L to be effective 11/1/2012.

Filed Date: 9/6/12.

Accession Number: 20120906-5038.

Comments Due: 5 p.m. ET 9/18/12.

Docket Numbers: RP12-1024-000.

Applicants: Bobcat Gas Storage.

Description: BGS Initial ACA Filing to be effective 10/1/2012.

Filed Date: 9/7/12.

Accession Number: 20120907-5095.

Comments Due: 5 p.m. ET 9/19/12.

Docket Numbers: RP12-1025-000.

Applicants: Egan Hub Storage, LLC.

Description: Egan Initial ACA Filing to be effective 10/1/2012.

Filed Date: 9/7/12.

Accession Number: 20120907-5098.

Comments Due: 5 p.m. ET 9/19/12.

Docket Numbers: RP12-1026-000.

Applicants: Saltville Gas Storage Company L.L.C.

Description: SGSC Initial ACA Filing to be effective 10/1/2012.

Filed Date: 9/7/12.

Accession Number: 20120907-5099.

Comments Due: 5 p.m. ET 9/19/12.

Docket Numbers: RP12-1027-000.

Applicants: Steckman Ridge, LP.

Description: SR Initial ACA Filing to be effective 10/1/2012.

Filed Date: 9/7/12.

Accession Number: 20120907-5100.

Comments Due: 5 p.m. ET 9/19/12.

Docket Numbers: RP12-965-000.

Applicants: Iroquois Gas Transmission System, L.P.

Description: 09/07/12 ACA 2012 Withdrawal.

Filed Date: 9/7/12.

Accession Number: 20120907-5122.

Comments Due: 5 p.m. ET 9/19/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-915-002.

Applicants: Petal Gas Storage, L.L.C.

Description: Compliance Filing to be effective 9/1/2012.

Filed Date: 9/7/12.

Accession Number: 20120907-5093.

Comments Due: 5 p.m. ET 9/19/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 10, 2012.
Nathaniel J. Davis, Sr.,
Deputy Secretary.

[FR Doc. 2012-22671 Filed 9-13-12; 8:45 am]

BILLING CODE 6717-01-P